DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table, below as follows: 1—Motor vehicle, 2—Rail freight, 3—Cargo vessel, 4—Cargo aircraft only, 5—Passenger-carrying aircraft.

DATES: Comments must be received on or before November 24, 2014.

ADDRESS COMMENTS TO: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on October 9, 2014.
Donald Burger,
Chief, General Approvals and Permits.

Application No. | Docket No. | Applicant | Regulation(s) affected | Nature of special permit thereof
New Special Permits
16249-N |  | Optimized Energy Solutions, LLC, Durango, CO | 49 CFR 172.101 Table, Column (8C), 173.315 | To authorize the transportation in commerce of ethane, refrigerated liquid in DOT 113C120W tank cars, (mode 2).
16251-N |  | Air Liquide America Specialty Gases, LLC, Plumsteadville, PA | 49 173.302a(a)(1), 173.302a(a)(3) | To authorize the transportation in commerce of certain non-liquefied flammable gases in non-DOT specification cylinders and certain non-liquefied flammable gases in cylinders authorized under DOT-SP 10788 with a volume not to exceed 1.6 L. (modes 1, 2, 3, 4, 5).
16253-N |  | Trinity Manufacturing, Inc., Hamlet, NC | 49 CFR 171.23(a)(4)(i) | To authorize the transportation in commerce of non-DOT specification cylinders (ADR foreign cylinders) requalified in accordance with European Standard BS EN 1803:2002 “Transportable Gas Cylinders—Periodic Inspection and Testing of Welded Carbon Steel Gas Cylinders” in lieu of the requalification requirements in 49 CFR part 180, subpart C. (modes 1, 3).
16261-N |  | Dexsil Corporation, Hamden, CT | 49 CFR 172.101(c)(2), Special Provision A3, 173.13(c)(1)(ii), 173.13(c)(1)(iii), 173.13(c)(1)(iv) | To authorize the transportation in commerce of small quantities of certain Division 4.3 materials in specially-designed packagings shipped without labels. (modes 1, 2, 4).
16274-N |  | Matheson Tri-Gas, Inc., Longmont, CO | 49 CFR 173.13(c)(2)(i), 173.13(c)(2)(ii), 173.13(c)(2)(iii), 5;3.1.1 of the ICAO TI | To authorize the transportation in commerce of certain Division 4.2 and 4.3 materials in specially-designed packagings shipped without labels. (modes 1, 4).

[FR Doc. 2014-25167 Filed 10-22-14; 8:45 am]

BILLING CODE 4909-60-M